DEPARTMENT OF AGRICULTURE

Food and Nutrition Service

7 CFR Parts 210, 220, 225, 226, 246, 247 and 251

RIN 0584-AD43

Data Collection Related to Institutions and Organizations

AGENCY: Food and Nutrition Service, USDA.

ACTION: Proposed rule.

SUMMARY: This proposed rule is part of the Department's effort to fulfill its responsibilities under Executive Orders 13279 and 13280. Under this rule, State agencies would collect and report information related to faith-based and community organizations currently participating and applying to participate in Food and Nutrition Service (FNS) nutrition assistance programs. This information would be added to existing collections for the affected programs. It would enable FNS to identify the faith-based and community organizations participating in FNS programs, determine the level of participation of faith-based and community organizations in its programs, ensure that FNS' programs are open to all eligible organizations and evaluate the effectiveness of its technical assistance and outreach efforts. It will not adversely impact the application or participation of any organization or institution currently participating in, or seeking to participate in FNS nutrition assistance programs.

DATES: Comments must be received on or before June 1, 2006 to be assured of consideration.

ADDRESSES: FNS invites interested persons to submit comments on this proposed rule. Comments may be submitted by any of the following methods:

• E-Mail: Send comments to SNPPROPOSAL@FNS.USDA.GOV. Please include Docket ID Number 403 in the subject line of the message.

• Fax: Submit comments by facsimile transmission to: (703) 305-2879.

• Disk or CD-ROM: Submit comments on disk or CD-ROM, Keith Churchill, Section Chief, Child and Adult Care and Summer Food Service Programs, Policy and Program Development Branch, Child Nutrition Division, Food and Nutrition Service, Department of Agriculture, 3101 Park Center Drive, Room 634, Alexandria, Virginia 22302-1594.

• Mail: Send comments to: Keith Churchill, Section Chief, Child and Adult Care and Summer Food Service Programs, Policy and Program Development Branch, Child Nutrition Division, Food and Nutrition Service, Department of Agriculture, 3101 Park Center Drive, Room 634, Alexandria, Virginia 22302-1594.

• Federal eRulemaking Portal: Visit http://www.regulations.gov and follow the online instructions for submitting comments.

All written submissions will be available for public inspection at this location Monday through Friday, 8:30 a.m.-5 p.m. eastern standard time.

FOR FURTHER INFORMATION CONTACT: Keith Churchill, Section Chief, Child and Adult Care and Summer Section, Policy and Program Development Branch, at the above address, or by telephone at (703) 305-2590.

SUPPLEMENTARY INFORMATION:

Background

Faith-based and community organizations (FBOs and COs) are important parts of the social service system of the United States, offering assistance to those in need. These organizations include small nonprofit organizations that provide access to one program or multiple services, and neighborhood groups that respond to a particular crisis or lead community renewal. Acting alone or as partners with other service providers and government programs, FBOs and COs serve needy persons, strengthen families and rebuild communities.

Federal agencies, including this Department, have been directed to ensure that Federal policies and programs allow FBOs and COs to participate in a manner that is consistent with the Constitution and statutory requirements.

On December 16, 2002, Executive Orders 13279 and 13280 were published in the Federal Register (67 FR 77139 and 67 FR 77145). Executive Order 13280 created a Center for Faith-Based and Community Initiatives in the Department of Agriculture. The Order charged the Center to coordinate efforts to identify and eliminate regulatory, contracting, and other programmatic obstacles that prevent the full participation of FBOs and COs in the delivery of the Department's social service programs.

Executive Order 13279 charged all Federal agencies, including the Department, to give equal treatment to FBOs and COs that apply for Federal assistance used to support social service programs. Additionally, the Order instructed Federal agencies to ensure that they collect data regarding the participation of FBOs and COs in social service programs that receive Federal financial assistance.

On July 9, 2004, the Department published a final rule, “Equal Opportunity for Religious Organizations,” in the Federal Register (69 FR 41375). This rule established Departmental policy regarding equal opportunity for religious organizations to participate in the Department's assistance programs for which other private organizations are eligible.

Purpose of This Rule

This proposed rule is part of the Department's effort to fulfill its responsibilities under Executive Orders 13279 and 13280. It is essential to collect information that enables FNS to identify the faith-based and community organizations participating in FNS programs, determine the level of participation of FBOs and COs in its programs, ensure that FNS' programs are open to all qualified organizations and evaluate the effectiveness of its technical assistance and outreach efforts. The consequence of non-collection would be an inability to determine the success of efforts to comply with the Executive Orders.

Requirements

Section 3(b) of Executive Order 13279 provides the Secretary with authority to “collect data regarding the participation of faith-based and community organizations in social service programs that receive Federal financial assistance.” This proposed rule would authorize the Secretary to require State agencies to report on a number of data elements for Federal fiscal years 2006 through 2009 regarding the organizations and institutions that currently participate in and that submit an application for the purpose of contracting, or entering into an agreement, with the State agency to participate in the National School Lunch Program; School Breakfast Program; Summer Food Service Program; Child and Adult Care Food Program; Special Supplemental Nutrition Program for Women, Infants and Children; Commodity Supplemental Food Program; or the State agency or a recipient agency to participate in The Emergency Food Assistance Program (TEFAP). This rule would also require State agencies to collect a second tier of data for TEFAP, since institutions and organizations may participate in TEFAP through entities that are dissimilar in institutional character.

A variety of approaches to this data collection are still being considered; therefore, the data elements to be included in the report have not yet been finalized. Data elements under consideration include:

(a) The total number of organizations that submitted an application to participate in the program with subtotals for the number of faith-based and community-based organizations;

(b) The total number of applications that were approved with subtotals for the number of faith-based and community-based organizations;

(c) The total number of organizations and institutions that sign a contract, or enter into an agreement with subtotals for the number of faith-based and community-based organizations;

(d) The total number of organizations and institutions that actually participate in the program with subtotals for the number of faith-based and community-based organizations;

(e) The name of each organization that actually participates in the program;

(f) The city in which the participating organization is headquartered within the state;

(g) The amount of funds provided to the participating organization, whether awarded, granted, contracted, or reimbursed;

(h) The type of participating organization, e.g. government agency, educational institution, for-profit organization, non-profit organization/secular, non-profit organization/faith-based, and “other.”

It is anticipated that only four or five of the above proposed data elements will be included in the final reporting requirement. The State agency would be required to report this data to FNS on or before March 1 for the prior Federal fiscal year. We solicit comment on which of these, or other data elements should be included in the final rule.

Implementation

It is anticipated that the requirements in this rule would be phased in on a program-specific basis, thereby enabling State agencies to include the collection of new data concurrent with each program's time of application, so that a separate collection specifically to meet this requirement would not be needed. However, further guidance will be provided to State agencies prior to the time of implementation of the final rule. This guidance will address appropriate vehicles and language for the collection of data to ensure that the results are comparable across States and programs. Although it is unlikely this guidance will be included in the final regulation, FNS seeks comments on several areas of guidance under consideration at this time. These include but are not limited to:

(a) When and how during the application process it is best to request data on the type of organizations applying and/or participating;

(b) Whether to collect data on subgrantees (pass-through funding recipients) in addition to the primary grantees; and

(c) Which of the specific data elements proposed above will be included in the reporting requirement.

Executive Order 12866

This proposed rule has been determined to be significant but not economically significant and was reviewed by the Office of Management and Budget (OMB) under Executive Order 12866.

Regulatory Impact Analysis

Costs

The cost implications of this proposed rule are minor. Assuming that State agencies collect this data as part of the application process for participation in the program, this rule will result in a small additional time burden for each applicant. Each program varies in the number of applications it receives and in how often during a Federal fiscal year participants must report to their State agencies so the overall additional time burden will differ among programs.

Need for Action

Section 3(b) of Executive Order 13279 provides the Secretary with authority to “collect data regarding the participation of FBOs and COs in social service programs that receive Federal financial assistance.” The consequence of non-collection would be an inability to determine the number of FBO and CO participants and a failure to comply with Executive Orders 13279 and 13280.

Benefits

This proposed rule would help the Department to implement Executive Orders 13279 and 13280. Collecting information on FBOs and COs would enable FNS to determine the level of participation in FNS programs by those organizations and help ensure that its programs are open to all eligible organizations.

Regulatory Flexibility Act

This proposed rule has been reviewed with regard to the requirements of the Regulatory Flexibility Act (5 U.S.C. 601-612). Eric M. Bost, Under Secretary for Food, Nutrition, and Consumer Services has certified that this proposed rule will not have a significant economic impact on a substantial number of small entities. The data collection which would be implemented would enable FNS to identify the faith-based and community organizations participating in FNS programs, determine the level of participation of FBOs and COs in its programs, ensure that FNS' nutrition assistance programs are open to all eligible organizations as mandated by Executive Orders 13279 and 13280, and evaluate the effectiveness of the Department's outreach efforts. While the effect of this rule would require organizations seeking to participate or participating in affected FNS programs to provide the requested information at the time of application and at other times, these reporting changes will not have a significant economic impact on those small entities.

Public Law 104-4

Title II of the Unfunded Mandates Reform Act of 1995 (UMRA), Public Law 104-4, establishes a requirement for Federal agencies to assess the effects of their regulatory actions on State, local, and tribal governments and the private sector. Under section 202 of the UMRA, FNS generally prepares a written statement, including a cost-benefit analysis. This is done for proposed and final rules that have “Federal mandates” which may result in expenditures of $100 million or more in any one year by State, local, or tribal governments, in the aggregate, or by the private sector. When this statement is needed for a rule, section 205 of the UMRA generally requires FNS to identify and consider a reasonable number of regulatory alternatives. It must then adopt the least costly, most cost-effective or least burdensome alternative that achieves the objectives of the rule.

This proposed rule contains no Federal mandates of $100 million or more in any one year (under regulatory provisions of Title II of the UMRA) for State, local, and tribal governments or the private sector. Thus, this rule is not subject to the requirements of sections 202 and 205 of the UMRA.

Executive Order 12372

National School Lunch Program; School Breakfast Program; Summer Food Service Program; Child and Adult Care Food Program; Special Supplemental Nutrition Program for Women, Infants and Children; and the Commodity Supplemental Food Program are listed in the Catalog of Federal Domestic Assistance under Nos. 10.555, 10.553, 10.559, 10.558, 10.557, and 10.565, respectively. The Emergency Food Assistance Program is listed in the Catalog of Federal Domestic Assistance under Nos. 10.568 and 10.569. These programs are subject to the provisions of Executive Order 12372, which requires intergovernmental consultation with State and local officials (7 CFR part 3015, subpart V, and final rule related notice at 48 FR 29115, June 24, 1983).

Executive Order 13132

Executive Order 13132 requires Federal agencies to consider the impact of their regulatory actions on State and local governments. Where such actions have federalism implications, agencies are directed to provide a statement for inclusion in the preamble to the regulations describing the agency's considerations in terms of the three categories called for under section (6)(b)(2)(B) of Executive Order 13132. FNS has considered the impact of this rule on State and local governments and has determined that this rule does not have federalism implications. This rule does not impose substantial compliance costs on State and local governments. Therefore, under Section 6(b) of the Executive Order, a federalism summary impact statement is not required.

Executive Order 12988

This proposed rule has been reviewed under Executive Order 12988, Civil Justice Reform. This rule is not intended to have preemptive effect with respect to any State or local laws, regulations or policies which conflict with its provisions or which would otherwise impede its full implementation. This rule is not intended to have retroactive effect unless so specified in the Effective Date paragraph of the final rule. Prior to any judicial challenge to the provisions of this rule or the application of its provisions, all applicable administrative procedures must be exhausted.

Civil Rights Impact Analysis

FNS has reviewed this rule in accordance with the Department Regulation 4300-4, “Civil Rights Impact Analysis,” to identify and address any major civil rights impacts the rule might have on minorities, women, and persons with disabilities. After a careful review of the rule's intent and provisions, FNS has determined that this proposed rule would not in any way limit or reduce participants' ability to participate in FNS' nutrition assistance programs on the basis of race, color, national origin, sex, age, or disability. FNS found no factors that would negatively and disproportionately affect any group of individuals.

Government Paperwork Elimination Act

FNS is committed to compliance with the Government Paperwork Elimination Act (GPEA), which requires Government agencies to provide the public the option of submitting information or transacting business electronically to the maximum extent possible.

Paperwork Reduction Act

The Paperwork Reduction Act of 1995 (44 U.S.C. 3507) requires the Office of Management and Budget (OMB) to approve all information collections by a Federal agency from the public before the collections can be implemented. Respondents are not required to respond to any collection of information unless it displays a current, valid OMB control number. This proposed rule contains information collections that are subject to review and approval by OMB; therefore, 60-day notices soliciting public comment on changes in the information collection burden that would result from adoption of the proposal is contained in this rule.

Comments must be received by May 2, 2006.

Send comments to the Office of Information and Regulatory Affairs, OMB, Attention: Desk Officer for FNS, Washington, DC 20503. Please also send a copy of your comments to, Keith Churchill, Section Chief, Child and Adult Care and Summer Food Service Programs, Policy and Program Development Branch, Child Nutrition Division, Food and Nutrition Service, U.S. Department of Agriculture, 3101 Park Center Drive, Room 634, Alexandria, VA 22302-1594. For further information, or for copies of the information collection, please contact Keith Churchill at the above address.

Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

All responses to this notice will be summarized and included in the request for OMB approval.

All comments will also become a matter of public record.

Titles of Data Collection Affected by This Rule
Programs | OMB No. | Expiration date
National School Lunch Program | 0584-0006 | 7/31/07
School Breakfast Program | 0584-0012 | 8/31/07
Summer Food Service Program | 0584-0280 | 10/31/07
Child and Adult Care Food Program | 0584-0055 | 6/30/07
Special Supplemental Nutrition Program for Women, Infants and Children | 0584-0043 | 3/31/07
Food Distribution Forms (Commodity Supplemental Food Program and The Emergency Food Assistance Program) | 0584-0293 | 2/29/08

Type of Request: Revision of currently approved collections.

Abstract: This proposed rule is part of the Department's effort to fulfill its responsibilities under Executive Orders 13279 and 13280. In order to implement these Executive Orders, it is essential to collect information that allows FNS to identify the faith-based and community organizations participating in FNS programs, determine the level of participation of FBOs and COs in its programs, ensure that FNS' programs are open to all eligible organizations and evaluate the effectiveness of its technical assistance and outreach efforts. The consequence of non-collection would be an inability to determine the success of efforts to comply with the Executive Orders.

Respondents: State agencies collect data from organizations and institutions that submit an application for the purpose of contracting, or entering into an agreement, to participate in the National School Lunch Program; School Breakfast Program; Summer Food Service Program; Child and Adult Care Food Program; Special Supplemental Nutrition Program for Women, Infants and Children; Commodity Supplemental Food Program; or with the State agency or another recipient agency to participate in The Emergency Food Assistance Program (TEFAP). State agencies document, compile, and report the data to FNS.

Estimated Annual Reporting Burden:

National School Lunch Program
[OMB #0584-0006]
| Section | Annual number of respondents | Annual frequency | Average burden per response | Annual burden hours
Each State agency (SA) collects data related to currently participating school food authorities and applicant school food authorities for Federal fiscal years 2006 through 2009, and reports on those data elements that will be selected from the list of proposed data elements included above in the “Requirements” section.
Total Existing State Agency | 7 CFR 210.23(d)(1) | 0 | 0 | 0 | 0
Total Proposed State Agency | 7 CFR 210.23(d)(1) | 57 | 364 | .25 | 5,187
Total Reporting Burden:
Total Existing | 0 |  |  |  |
Total Proposed | 5,187 |  |  |  |
Change | +5,187 |  |  |  |
SAs document the process used to determine the data and report process to FNS, on or before March 1 of each year from 2007 through 2010.
Total Existing State Agency | 7 CFR 210.23(d)(2) | 0 | 0 | 0 | 0
Total Proposed State Agency | 7 CFR 210.23(d)(2) | 57 | 1 | 1 | 57
Total Reporting Burden:
Total Existing | 0 |  |  |  |
Total Proposed | 57 |  |  |  |
Change | +57 |  |  |  |
On or before March 1 of each year from 2007 through 2010, SAs report to FNS, as designated by FNS, data compiled for the prior Federal fiscal year.
Total Existing State Agency | 7 CFR 210.23(d)(3) | 0 | 0 | 0 | 0
Total Proposed State Agency | 7 CFR 210.23(d)(3) | 57 | 1 | .5 | 28.5
Total Reporting Burden:
Total Existing | 0 |  |  |  |
Total Proposed | 28.5 |  |  |  |
Change | +28.5 |  |  |  |
Current Total Existing Burden for 7 CFR part 210: 10,448,411.
Total Purposed Burden Attributed to Rule: 5,272.5.
Total Proposed Burden for 7 CFR part 210: 10,453,683.

School Breakfast Program
[OMB #0584-0012]
| Section | Annual number of respondents | Annual frequency | Average burden per response | Annual burden hours
Each SA collects data related to currently participating school food authorities and applicant school food authorities for Federal fiscal years 2006 through 2009, and reports on those data elements that will be selected from the list of proposed data elements included above in the “Requirements” section.
Total Existing State Agency | 7 CFR 220.13(l)(1) | 0 | 0 | 0 | 0
Total Proposed State Agency | 7 CFR 220.13(l)(1) | 57 | 290 | .25 | 4,132.5
Total Reporting Burden:
Total Existing | 0 |  |  |  |
Total Proposed | 4,132.5 |  |  |  |
Change | +4,132.5 |  |  |  |
SAs document the process used to determine the data and report that process to FNS, on or before March 1 of each year from 2007 through 2010.
Total Existing State Agency | 7 CFR 220.13(l)(2) | 0 | 0 | 0 | 0
Total Proposed State Agency | 7 CFR 220.13(l)(2) | 57 | 1 | 1 | 57
Total Reporting Burden:
Total Existing | 0 |  |  |  |
Total Proposed | 57 |  |  |  |
Change | +57 |  |  |  |
On or before March 1 of each year from 2007 through 2010, SAs report to FNS, as designated by FNS, data compiled for the prior Federal fiscal year.
Total Existing State Agency | 7 CFR 220.13(l)(3) | 0 | 0 | 0 | 0
Total Proposed State Agency | 7 CFR 220.13(l)(3) | 57 | 1 | .5 | 28.5
Total Reporting Burden:
Total Existing | 0 |  |  |  |
Total Proposed | 28.5 |  |  |  |
Change | +28.5 |  |  |  |
Current Total Existing Burden for 7 CFR part 220: 4,564,772.
Total Proposed Burden Attributed to Rule: 4,218.
Total Proposed Burden for 7 CFR part 220: 4,568,990.

Summer Food Service Program
[OMB #0584-0280]
| Section | Annual number of respondents | Annual frequency | Average burden per response | Annual burden hours
Each SA collects data related to currently participating sponsors and applicant sponsors for Federal fiscal years 2006 through 2009, and reports on those data elements that will be selected from the list of proposed data elements included above in the “Requirements” section.
Total Existing State Agency | 7 CFR 225.18(i)(1) | 0 | 0 | 0 | 0
Total Proposed State Agency | 7 CFR 225.18(i)(1) | 52 | 70 | .25 | 910
Total Reporting Burden:
Total Existing | 0 |  |  |  |
Total Proposed | 910 |  |  |  |
Change | +910 |  |  |  |
SAs document the process used to determine the data and report that process to FNS, on or before March 1 of each year from 2007 through 2010.
Total Existing State Agency | 7 CFR 225.18(i)(2) | 0 | 0 | 0 | 0
Total Proposed State Agency | 7 CFR 225.18(i)(2) | 52 | 1 | 1 | 52
Total Reporting Burden:
Total Existing | 0 |  |  |  |
Total Proposed | 52 |  |  |  |
Change | +52 |  |  |  |
On or before March 1 of each year from 2007 through 2010, SAs report to FNS, as designated by FNS, data for the prior Federal fiscal year.
Total Existing State Agency | 7 CFR 225.18(i)(3) | 0 | 0 | 0 | 0
Total Proposed State Agency | 7 CFR 225.18(i)(3) | 52 | 1 | .25 | 13
Total Reporting Burden:
Total Existing | 0 |  |  |  |
Total Proposed | 13 |  |  |  |
Change | +13 |  |  |  |
Current Total Existing Burden for 7 CFR part 225: 249,769.
Total Purposed Burden Attributed to Rule: 975.
Total Proposed Burden for 7 CFR part 225: 250,744.

Child and Adult Care Food Program
[OMB #0584-0055]
| Section | Annual number of respondents | Annual frequency | Average burden per response | Annual burden hours
Each SA collects data related to currently participating organizations and applicant organizations for Federal fiscal years 2006 through 2009, and reports on those data elements that will be selected from the list of proposed data elements included above in the “Requirements” section.
Total Existing State Agency | 7 CFR 226.25(g)(1) | 0 | 0 | 0 | 0
Total Proposed State Agency | 7 CFR 226.25(g)(1) | 53 | 388 | .5 | 10,282
Total Reporting Burden:
Total Existing | 0 |  |  |  |
Total Proposed | 10,282 |  |  |  |
Change | +10,282 |  |  |  |
SAs document the process used to determine the data and report that process to FNS, on or before March 1 of each year from 2007 through 2010.
Total Existing State Agency | 7 CFR 226.25(g)(2) | 0 | 0 | 0 | 0
Total Proposed State Agency | 7 CFR 226.25(g)(2) | 53 | 1 | 1 | 53
Total Reporting Burden:
Total Existing | 0 |  |  |  |
Total Proposed | 53 |  |  |  |
Change | +53 |  |  |  |
On or before March 1 of each year from 2007 through 2010, SAs report to FNS, as designated by FNS, data compiled for the prior Federal fiscal year.
Total Existing State Agency | 7 CFR 226.25(g)(3) | 0 | 0 | 0 | 0
Total Proposed State Agency | 7 CFR 226.25(g)(3) | 53 | 1 | .25 | 13.25
Total Reporting Burden:
Total Existing | 0 |  |  |  |
Total Proposed | 13.25 |  |  |  |
Change | +13.25 |  |  |  |
Current Total Existing Burden for 7 CFR part 226: 5,782,030.
Total Purposed Burden Attributed to Rule: 10,348.25.
Total Proposed Burden for 7 CFR part 226: 5,792,378.

/

Special Supplemental Nutrition Program for Women, Infants and Children
[OMB #0584-0043]
| Section | Annual number of respondents | Annual frequency | Average burden per response | Annual burden hours
Each SA collects data related to currently participating local agencies and applicant local agencies for Federal fiscal years 2006 through 2009, and reports on those data elements that will be selected from the list of proposed data elements included above in the “Requirements” section.
Total Existing State Agency | 7 CFR 246.26(h)(1) | 0 | 0 | 0 | 0
Total Proposed State Agency | 7 CFR 246.26(h)(1) | 53 | 35 | .25 | 463.8
Total Reporting Burden:
Total Existing | 0 |  |  |  |
Total Proposed | 463.8 |  |  |  |
Change | +463.8 |  |  |  |
SAs document the process used to determine the data and report that process to FNS, on or before March 1 of each year from 2007 through 2010.
Total Existing State Agency | 7 CFR 246.26(h)(2) | 0 | 0 | 0 | 0
Total Proposed State Agency | 7 CFR 246.26(h)(2) | 53 | 1 | 1 | 53
Total Reporting Burden:
Total Existing | 0 |  |  |  |
Total Proposed | 53 |  |  |  |
Change | +53 |  |  |  |
On or before March 1 of each year from 2007 through 2010, SAs report to FNS, as designated by FNS, data compiled for the prior Federal fiscal year.
Total Existing State Agency | 7 CFR 246.26(h)(3) | 0 | 0 | 0 | 0
Total Proposed State Agency | 7 CFR 246.26(h)(3) | 53 | 1 | .25 | 13.25
Total Reporting Burden:
Total Existing | 0 |  |  |  |
Total Proposed | 13.25 |  |  |  |
Change | +13.25 |  |  |  |
Current Total Existing Burden for 7 CFR part 246: 2,953,524.
Total Purposed Burden Attributed to Rule: 530.05.
Total Proposed Burden for 7 CFR part 246: 2,954,054.

Food Distribution Forms—Commodity Supplemental Food Program
[OMB #0584-0293]
| Section | Annual number of respondents | Annual frequency | Average burden per response | Annual burden hours
Each SA collect data related to currently participating local agencies and applicant local agencies for Federal fiscal years 2006 through 2009, and reports on those data elements that will be selected from the list of proposed data elements included above in the “Requirements” section.
Total Existing State Agency | 7 CFR 247.29(d)(1) | 0 | 0 | 0 | 0
Total Proposed State Agency | 7 CFR 247.29(d)(1) | 35 | 4 | .25 | 35
Total Reporting Burden:
Total Existing | 0 |  |  |  |
Total Proposed | 35 |  |  |  |
Change | +35 |  |  |  |
SAs document the process used to determine the data and report that process to FNS, on or before March 1 of each year from 2007 through 2010.
Total Existing State Agency | 7 CFR 247.29(d)(2) | 0 | 0 | 0 | 0
Total Proposed State Agency | 7 CFR 247.29(d)(2) | 35 | 1 | 1 | 35
Total Reporting Burden:
Total Existing | 0 |  |  |  |
Total Proposed | 35 |  |  |  |
Change | +35 |  |  |  |
On or before March 1 of each year from 2007 through 2010, SAs report to FNS, as designated by FNS, data compiled for the prior Federal fiscal year.
Total Existing State Agency | 7 CFR 247.29(d)(3) | 0 | 0 | 0 | 0
Total Proposed State Agency | 7 CFR 247.29(d)(3) | 35 | 1 | .25 | 8.75
Total Reporting Burden:
Total Existing | 0 |  |  |  |
Total Proposed | 8.75 |  |  |  |
Change | +8.75 |  |  |  |
Current Total Existing Burden for 7 CFR part 247: 298,267.
Total Purposed Burden Attributed to Rule: 78.75.
Total Proposed Burden for 7 CFR part 247: 298,346.

Food Distribution Forms—The Emergency Food Assistance Program
[OMB #0584-0293]
| Section | Annual number of respondents | Annual frequency | Average burden per response | Annual burden hours
Each SA collects data related to currently participating local agencies and applicant local agencies for Federal fiscal years 2006 through 2009, and reports on those data elements that will be selected from the list of proposed data elements included above in the “Requirements” section.
Total Existing State Agency | 7 CFR 251.10(i)(1) | 0 | 0 | 0 | 0
Total Proposed State Agency | 7 CFR 251.10(i)(1) | 56 | 29 | .25 | 406
Total Reporting Burden:
Total Existing | 0 |  |  |  |
Total Proposed | 406 |  |  |  |
Change | +406 |  |  |  |
SAs document the process used to determine the data and report that process to FNS, on or before March 1 of each year from 2007 through 2010.
Total Existing State Agency | 7 CFR 251.10(i)(2) | 0 | 0 | 0 | 0
Total Proposed State Agency | 7 CFR 251.10(i)(2) | 56 | 1 | 1 | 56
Total Reporting Burden:
Total Existing | 0 |  |  |  |
Total Proposed | 56 |  |  |  |
Change | +56 |  |  |  |
On or before March 1 of each year from 2007 through 2010, SAs report to FNS, as designated by FNS, data compiled for the prior Federal fiscal year.
Total Existing State Agency | 7 CFR 251.10(i)(3) | 0 | 0 | 0 | 0
Total Proposed State Agency | 7 CFR 251.10(i)(3) | 56 | 1 | .25 | 14
Total Reporting Burden:
Total Existing | 0 |  |  |  |
Total Proposed | 14 |  |  |  |
Change | +14 |  |  |  |
Current Total Existing Burden for 7 CFR part 251: 674,693
Total Purposed Burden Attributed to Rule: 476
Total Proposed Burden for 7 CFR part 251: 675,169

Commenters should note that the average burden per response for the requirement that “each SA collects data related to currently participating local agencies and applicant local agencies for Federal fiscal years 2006 through 2009, and reports on those data elements that will be selected from the list of proposed data elements included above in the ‘Requirements’ section” is .25 hour. This average burden per response was based on the collection of the four data elements (a)-(d) found in the “Requirements” section of this preamble. Should a different combination of data elements be selected, the average burden hours per response may change. For example, should the four data elements (e)-(h) be selected, the average burden hour per response for this response could be expected to increase to 2 hours.

List of Subjects

7 CFR Part 210

Children, Food assistance programs, Grant programs-social programs, Nutrition, Reporting and recordkeeping requirements, National School Lunch Program.

7 CFR Part 220

Children, Food assistance programs, Grant programs—social programs, Nutrition, Reporting and recordkeeping requirements, School Breakfast Program.

7 CFR Part 225

Food and Nutrition Service, Food assistance programs, Grant programs—health, Infants and children, Labeling, Reporting and recordkeeping requirements.

7 CFR Part 226

Accounting, Aged, Day care, Food and Nutrition Service, Food assistance programs, Grant programs, Grant programs—health, Indians, Individuals with disabilities, Infants and children, Intergovernmental relations, Loan programs, Reporting and recordkeeping requirements, Surplus agricultural commodities.

7 CFR Part 246

Food assistance programs, Food donations, Grant programs-social programs, American Indians, Infants and children, Maternal and child health, Nutrition, Nutrition education, Public assistance programs, WIC, Women.

7 CFR Part 247

Agricultural commodities, Food assistance programs, Infants and children, Maternal and child health, Public assistance programs, nutrition, women, aged.

7 CFR Part 251

Aged, Agricultural commodities, Business and industry, Food assistance programs, Food donations, Grant programs-social programs, American Indians, Infants and children, Commodity loan programs, Reporting and recordkeeping requirements, School breakfast and lunch programs, Surplus agricultural commodities.

Accordingly, 7 CFR Parts 210, 220, 225, 226, 246, 247 and 251 are amended as follows:

PART 210—NATIONAL SCHOOL LUNCH PROGRAM

1. The authority citation for part 210 continues to read as follows:

Authority: 42 U.S.C. 1751-1760, 1779.

2. In § 210.23, a new paragraph (d) is added to read as follows:

§ 210.23 Other responsibilities.

* * * * *

(d) Data collection related to school food authorities.

(1) Each State agency must collect data related to currently participating school food authorities and applicant school food authorities for Federal fiscal years 2006 through 2009. Such data may include but are not limited to:

(i) The total number of organizations that submitted an application to participate in the program with subtotals for the number of faith-based and community-based organizations;

(ii) The total number of applications that were approved with subtotals for the number of faith-based and community-based organizations;

(iii) The total number of organizations and institutions that sign a contract, or enter into an agreement with subtotals for the number of faith-based and community-based organizations;

(iv) The total number of organizations and institutions that actually participate in the program with subtotals for the number of faith-based and community-based organizations.

(2) State agencies must document the process used to determine the data specified in paragraph (d)(1) of this section and report that process to FNS, on or before March 1 of each year from 2007 through 2010.

(3) On or before March 1 of each year from 2007 through 2010, State agencies must report to FNS, as designated by FNS, data compiled as specified in paragraph (d)(1) of this section for the prior Federal fiscal year.

PART 220—SCHOOL BREAKFAST PROGRAM

1. The authority citation for part 220 continues to read as follows:

Authority: 42 U.S.C. 1773, 1779, unless otherwise noted.

2. In § 220.13, a new paragraph (l) is added to read as follows:

§ 220.13 Special responsibilities of State agencies.

* * * * *

(l) Data collection related to school food authorities.

(1) Each State agency must collect data related to currently participating school food authorities and applicant school food authorities for Federal fiscal years 2006 through 2009. Such data may include but are not limited to:

(i) The total number of organizations that submitted an application to participate in the program with subtotals for the number of faith-based and community-based organizations;

(ii) The total number of applications that were approved with subtotals for the number of faith-based and community-based organizations;

(iii) The total number of organizations and institutions that sign a contract, or enter into an agreement with subtotals for the number of faith-based and community-based organizations;

(iv) The total number of organizations and institutions that actually participate in the program with subtotals for the number of faith-based and community-based organizations.

(2) State agencies must document the process used to determine the data specified in paragraph (l)(1) of this section and report that process to FNS, on or before March 1 of each year from 2007 through 2010.

(3) On or before March 1 of each year from 2007 through 2010, State agencies must report to FNS, as designated by FNS, data compiled as specified in paragraph (l)(1) of this section for the prior Federal fiscal year.

PART 225—SUMMER FOOD SERVICE PROGRAM

1. The authority citation for part 225 continues to read as follows:

Authority: Secs. 9, 13 and 14, National School Lunch Act, as amended (42 U.S.C. 1758, 1761 and 1762a).

2. In § 225.18, a new paragraph (i) is added to read as follows:

§ 225.18 Miscellaneous administrative provisions.

* * * * *

(i) Data collection related to sponsors.

(1) Each State agency must collect data related to currently participating sponsors and applicant sponsors for Federal fiscal years 2006 through 2009. Such data may include but are not limited to:

(i) The total number of organizations that submitted an application to participate in the program with subtotals for the number of faith-based and community-based organizations;

(ii) The total number of applications that were approved with subtotals for the number of faith-based and community-based organizations;

(iii) The total number of organizations and institutions that sign a contract, or enter into an agreement with subtotals for the number of faith-based and community-based organizations;

(iv) The total number of organizations and institutions that actually participate in the program with subtotals for the number of faith-based and community-based organizations.

(2) State agencies must document the process used to determine the data specified in paragraph (i)(1) of this section and report that process to FNS, on or before March 1 of each year from 2007 through 2010.

(3) On or before March 1 of each year from 2007 through 2010, State agencies must report to FNS, as designated by FNS, data compiled as specified in paragraph (i)(1) of this section for the prior Federal fiscal year.

PART 226—CHILD AND ADULT CARE FOOD PROGRAM

1. The authority citation for part 226 continues to read as follows:

Authority: Secs. 9, 11, 14, 16, and 17, Richard B. Russell National School Lunch Act, as amended (42 U.S.C. 1758, 1759a, 1762a, 1765 and 1766).

2. In § 226.25, a new paragraph (g) is added to read as follows:

§ 226.25 Other provisions.

* * * * *

(g) Data collection related to organizations.

(1) Each State agency must collect data related to currently participating organizations and applicant organizations for Federal fiscal years 2006 through 2009. Such data may include but are not limited to:

(i) The total number of organizations that submitted an application to participate in the program with subtotals for the number of faith-based and community-based organizations;

(ii) The total number of applications that were approved with subtotals for the number of faith-based and community-based organizations;

(iii) The total number of organizations and institutions that sign a contract, or enter into an agreement with subtotals for the number of faith-based and community-based organizations;

(iv) The total number of organizations and institutions that actually participate in the program with subtotals for the number of faith-based and community-based organizations;

(2) State agencies must document the process used to determine the data specified in paragraph (g)(1) of this section and report that process to FNS, on or before March 1 of each year from 2007 through 2010.

(3) On or before March 1 of each year from 2007 through 2010, State agencies must report to FNS, as designated by FNS, data compiled as specified in paragraph (g)(1) of this section for the prior Federal fiscal year.

PART 246—SPECIAL SUPPLEMENTAL NUTRITION PROGRAM FOR WOMEN, INFANTS AND CHILDREN

1. The authority citation for part 246 continues to read as follows:

Authority: 42 U.S.C. 1786.

2. In § 246.26, a new paragraph (h) is added to read as follows:

§ 246.26 Other provisions.

* * * * *

(h) Data collection related to local agencies.

(1) Each State agency must collect data related to currently participating local agencies and applicant local agencies for Federal fiscal years 2006 through 2009. Such data may include but are not limited to:

(i) The total number of organizations that submitted an application to participate in the program with subtotals for the number of faith-based and community-based organizations;

(ii) The total number of applications that were approved with subtotals for the number of faith-based and community-based organizations;

(iii) The total number of organizations and institutions that sign a contract, or enter into an agreement with subtotals for the number of faith-based and community-based organizations;

(iv) The total number of organizations and institutions that actually participate in the program with subtotals for the number of faith-based and community-based organizations.

(2) State agencies must document the process used to determine the data specified in paragraph (h)(1) of this section and report that process to FNS, on or before March 1 of each year from 2007 through 2010.

(3) On or before March 1 of each year from 2007 through 2010, State agencies must report to FNS, as designated by FNS, data compiled as specified in paragraph (h)(1) of this section for the prior Federal fiscal year.

PART 247—COMMODITY SUPPLEMENTAL FOOD PROGRAM

1. The authority citation for part 247 continues to read as follows:

Authority: Sec. 5, Pub. L. 93-86, 87 Stat. 249, as added by Sec. 1304(b)(2), Pub. L. 95-113, 91 Stat. 980 (7 U.S.C. 612c note); sec. 1335, Pub. L. 97-98, 95 Stat. 1293 (7 U.S.C. 612c note); sec. 209, Pub. L. 98-8, 97 Stat. 35 (7 U.S.C. 612c note); sec. 2 (8), Pub. L. 98-92, 97 Stat. 611 (7 U.S.C. 612c note); sec. 1562, Pub. L. 99-198, 99 Stat. 1590 (7 U.S.C. 612c note); sec. 101(k), Pub. L. 100-202; sec. 1771(a), Pub. L 101-624, 101 Stat. 3806 (7 U.S.C. 612c note); sec. 402(a), Pub. L. 104-127, 110 Stat. 1028 (7 U.S.C. 612c note); Pub. L. 107-171.

2. In § 247.29, a new paragraph (d) is added to read as follows:

§ 247.29 Reports and recordkeeping.

* * * * *

(d) Data collection related to local agencies.

(1) Each State agency must collect data related to currently participating local agencies and applicant local agencies for Federal fiscal years 2006 through 2009. Such data may include but are not limited to:

(i) The total number of organizations that submitted an application to participate in the program with subtotals for the number of faith-based and community-based organizations;

(ii) The total number of applications that were approved with subtotals for the number of faith-based and community-based organizations;

(iii) The total number of organizations and institutions that sign a contract, or enter into an agreement with subtotals for the number of faith-based and community-based organizations;

(iv) The total number of organizations and institutions that actually participate in the program with subtotals for the number of faith-based and community-based organizations.

(2) State agencies must document the process used to determine the data specified in paragraph (d)(1) of this section and report that process to FNS, on or before March 1 of each year from 2007 through 2010.

(3) On or before March 1 of each year from 2007 through 2010, State agencies must report to FNS, as designated by FNS, data compiled as specified in paragraph (d)(1) of this section for the prior Federal fiscal year.

PART 251—THE EMERGENCY FOOD ASSISTANCE PROGRAM

1. The authority citation for part 251 continues to read as follows:

Authority: 7 U.S.C. 7501-7516.

2. In § 251.10, a new paragraph (i) is added to read as follows:

§ 251.10 Miscellaneous provisions.

* * * * *

(i) Data collection related to eligible recipient agencies.

(1) Each State agency must collect data related to currently participating local agencies and applicant local agencies for Federal fiscal years 2006 through 2009. Such data may include but are not limited to:

(i) The total number of organizations that submitted an application to the State agency or to another eligible recipient agency to participate in the program with subtotals for the number of faith-based and community-based organizations;

(ii) The total number of applications that were approved by the State agency or by another eligible recipient agency with subtotals for the number of faith-based and community-based organizations;

(iii) The total number of organizations and institutions that sign a contract, or enter into an agreement with the State agency or with another eligible recipient agency with subtotals for the number of faith-based and community-based organizations;

(iv) The total number of organizations and institutions that actually participate in the program with subtotals for the number of faith-based and community-based organizations.

(2) State agencies must document the process used to determine the data specified in paragraph (i)(1) of this section and report that process to FNS, on or before March 1 of each year from 2007 through 2010.

(3) On or before March 1 of each year from 2007 through 2010, State agencies must report to FNS, as designated by FNS, data compiled as specified in paragraph (i)(1) of this section for the prior Federal fiscal year.

Dated: February 27, 2006.
Kate Coler,
Deputy Under Secretary for Food, Nutrition and Consumer Services.

[FR Doc. 06-1985 Filed 3-2-06; 8:45 am]

BILLING CODE 3410-30-P